DEPARTMENT OF THE INTERIOR

Bureau of Land Management

[ES-030-1430-ES; WIES 050211]

Notice of Realty Action: Recreation and Public Purposes (R&PP) Act Classification and Conveyance; Vilas County, WI

AGENCY: Bureau of Land Management, Interior.

ACTION: Notice of realty action.

SUMMARY: The Bureau of Land Management (BLM) has examined and found suitable for classification for conveyance under the provisions of the Recreation and Public Purposes Act (R&PP), as amended (43 U.S.C. 869 et seq.), 63.67 acres in Vilas County, Wisconsin. The Vilas County Forestry, Recreation and Land Department has filed an application and plans proposing to use the land for recreational purposes.

DATES: Written comments must be received by the BLM not later than September 25, 2006.

ADDRESSES: Please submit your written comments to the Field Manager, BLM-ES, Milwaukee Field Office, 626 East Wisconsin Avenue, Suite 200, Milwaukee, Wisconsin 53202. Comments received in electronic form, such as e-mail or facsimile, will not be considered.

FOR FURTHER INFORMATION CONTACT: Marcia Sieckman, Supervisor, BLM-ES Milwaukee Field Office, at 414-297-4402.

SUPPLEMENTARY INFORMATION: The following described land in Vilas County, Wisconsin, has been examined and found suitable for classification for conveyance under the provisions of the Recreation and Public Purposes (R&PP) Act of 1926, as amended (43 U.S.C. 869 et seq.), and is hereby classified accordingly:

Fourth Principal Meridian

T. 40 N., R.9 E.,

sec. 4, lots 8 and 9.

The area described contains 63.67 acres in Vilas County, Wisconsin. Prior to 1973, Vilas County Forestry, Recreation and Land Department believed that it owned the land within lots 8 and 9. However, a resurvey of the original meander in 1973 showed the original survey of June 9, 1864, to be in error. Lots 8 and 9 2343 created as a result of that resurvey. Vilas County wishes to acquire title to lots 8 and 9 in order to consolidate the County's ownership on the northeast side of Pickerel Lake. This action classifies the land for conveyance under the R&PP Act to protect natural resource values and to provide public recreation. The subject land was identified in the BLM's Wisconsin Resource Management Plan Amendment (March 2001), as not needed for Federal purposes and as having potential for disposal in order to eliminate scattered tracts difficult to manager and to improve land ownership patterns.

If and when issued, the patent for the subject land will be issued subject to the following terms, conditions, and reservations:

1. Provisions of the R&PP Act of 1926, as amended and all applicable regulations established by the Secretary of the Interior.

2. Valid existing rights, whether or not of record.

3. Easements for township roads, Pickerel Lake Road and Camp 12 Road.

4. All mineral deposits in the subject lands are reserved to the United States, together with the right to prospect for, mine and remove such deposits under regulations established by the Secretary of the Interior and applicable laws.

5. Terms and conditions prompted by the site specific environmental analysis.

6. Any other rights or reservations that the authorized officer deems appropriate to ensure public access and proper management of the Federal ands and interests therein.

On August 9, 2006, the land described above will be segregated from all forms of disposal or appropriation under the public land laws, except for conveyance under the R&PP Act and leasing under the mineral leasing laws.

Detailed information concerning this action is available for review in the BLM-ES, Milwaukee Field Office, at the address listed above.

Classification Comments: Interested persons may submit comments regarding the proposed classification at the address stated above for that purpose. Comments on classification are restricted to four subjects: (1) Whether the land is physically suited for the proposal; (2) whether the use will maximize the future use or uses of the land; (3) whether the use is consistent with local planning and zoning; and (4) whether the use is consistent with State and Federal programs.

Application Comments: Interested persons may submit comments regarding: (1) The specific use to be made of the subject land as proposed in the County's application, plan of development and management plan; (2) whether the BLM followed proper administrative procedure in reaching the decision; or (3) any other factor not directly related to the suitability of the land for recreation.

Comments, including names and street addresses of respondents, will be available for public review at the BLM-ES, Milwaukee Field Office at the address listed above during business hours (7:30 a.m. to 4:30 p.m.); Monday through Friday, except Federal holidays. Individual respondents may request confidentiality with respect to their name, address, and phone number. If you wish to have your name or street address withheld from public review, or from disclosure under the Freedom of Information Act, you must state this prominently at the beginning of your comments. Such requests will be honored to the extent allowed by law. All submissions from organizations or businesses, and from individual identifying themselves as representatives or officials or organizations or businesses, will be made available for pubic inspection in their entirety.

Any adverse comments will be evaluated by the State Director. In the absence of any adverse comments, the classification of the subject land will become effective on October 10, 1006. The land will not be offered for conveyance until after the classification becomes effective.

(Authority: 43 CFR 2471.5)
Dated: July 13, 2006.
Michael D. Nedd,
State Director, Eastern States.

[FR Doc. 06-6782 Filed 8-8-06; 8:45 am]

BILLING CODE 4310-PN-M